OFFICE OF NATIONAL DRUG CONTROL POLICY

Paperwork Reduction Act; OMB Approval; Comment Request

AGENCY: Office of National Drug Control Policy.

ACTION: Notice.

SUMMARY: The Office of National Drug Control Policy (ONDCP) seeks Office of Management and Budget (OMB) approval and clearance for the collection of information. The public may request additional information from ONDCP including copies of the proposed collection of information and supporting documentation. Comments should be addressed within 30 days to OMB Office of Information and Regulatory Affairs (OIRA) Attention: Desk Office for ONDCP.

ADDRESSES: Request additional information from ONDCP's Office of Planning and Budget, 750 17th Street, Washington, DC 20503 or fax the request to (202) 395-6729. Comments may be addressed to OMB at 725 17th Street, Washington, DC 20503.

Dated: May 27, 2004.
Daniel R. Petersen,
Assistant General Counsel.

[FR Doc. 04-12424 Filed 6-1-04; 8:45 am]

BILLING CODE 3180-02-M